DEPARTMENT OF COMMERCE

National Oceanic and Atmospheric Administration

RIN 0648-XG952

North Pacific Fishery Management Council; Public Meeting

AGENCY: National Marine Fisheries Service (NMFS), National Oceanic and Atmospheric Administration (NOAA), Commerce.

ACTION: Notice of telephonic meeting.

SUMMARY: The North Pacific Fishery Management Council (Council) Community Engagement Committee (CEC) will hold a teleconference on April 29, 2019.

DATES: The teleconference will be held on Monday, April 29, 2019, from 2 p.m. to 4 p.m. Alaska Daylight Time.

ADDRESSES: The meeting will be held telephonically. Teleconference number is (907) 245-3900, Pin is 2809.

Council address: North Pacific Fishery Management Council, 605 W 4th Ave., Suite 306, Anchorage, AK 99501-2252; telephone: (907) 271-2809.

FOR FURTHER INFORMATION CONTACT: Steve MacLean, Council staff; telephone: (907) 271-2809.

SUPPLEMENTARY INFORMATION:

Agenda

Monday, April 29, 2019

The purpose of the meeting is to review the list of engagement protocols currently employed by the Council.

The Agenda is subject to change, and the latest version will be posted at https://www.npfmc.org prior to the meeting.

Public Comment

Public comment letters will be accepted and should be submitted either via email at: Steve.MacLean@noaa.gov or through the mail: North Pacific Fishery Management Council, 605 W 4th Ave., Suite 306, Anchorage, AK 99501-2252. In-person oral public testimony will be accepted at the discretion of the chair.

Special Accommodations

These meetings are physically accessible to people with disabilities. Requests for sign language interpretation or other auxiliary aids should be directed to Shannon Gleason at (907) 271-2809 at least 7 working days prior to the meeting date.

Dated: April 10, 2019.
Rey Israel Marquez,
Acting Deputy Director, Office of Sustainable Fisheries, National Marine Fisheries Service.

[FR Doc. 2019-07446 Filed 4-12-19; 8:45 am]

BILLING CODE 3510-22-P